MERIT SYSTEMS PROTECTION BOARD

5 CFR Part 1201

Final Regulatory Changes Designating the Dallas Field Office as the Dallas Regional Office

AGENCY: Merit Systems Protection Board.

ACTION: Final rule.

SUMMARY: The Merit Systems Protection Board (MSPB or Board) is amending Appendix II and Appendix III of this part to rename the Dallas Field Office as the Dallas Regional Office. This change is being made to eliminate an unnecessary layer of supervision and achieve parity with other regional offices in the supervision of the administrative judges and support staff. This change will better reflect the actual workload and size of the Board's Dallas office.

Effective Date: October 22, 2004.

FOR FURTHER INFORMATION CONTACT: Timothy L. Korb, Information Services, Merit Systems Protection Board, 1615 M Street, NW., Washington, DC 20419; (202) 653-7200; fax: (202) 653-7130; e-mail: mspb@mspb.gov.

SUPPLEMENTARY INFORMATION: The Board is amending Appendix II and Appendix III of this part to rename the Dallas Field Office as the Dallas Regional Office. This change is being made to better reflect the actual status of the office. Specifically, the workload, at 821 case receipts in fiscal year 2003, was similar to that of the regional offices, and well in excess of that of the other field offices. In fact, this has been the trend in all fiscal years since 1999. Further, the staffing level of the office is comparable to that of the regional offices, and again, greater than that of the other field offices. This, too, has consistently been the case in recent years. Finally, the Dallas office, alone among the current field offices, was a Regional Office even after the Board created a field office structure, and lost that designation only as a result of the retirement of the Regional Director.

The Board is publishing this rule as a final rule pursuant to 5 CFR part 1201.

List of Subjects in Part 1201

Administrative Practice and Procedure.

PART 1201—PRACTICES AND PROCEDURES

1. The authority citation for part 1201 continues to read as follows:

Authority: 5 U.S.C. 1204 and 7701, unless otherwise noted.

Appendix II [Amended]

2. Amend Appendix II to Part 1201 at paragraph 2a by removing the word “Field” and adding in its place the word “Regional,” and redesignating paragaph 2a as paragraph 6.

Appendix III [Amended]

3. Amend Appendix III to Part 1201 by removing the term “Dallas Field Office” and by adding in its place “Dallas Regional Office”.

Dated: October 18, 2004.
Bentley M. Roberts, Jr.,
Clerk of the Board.

[FR Doc. 04-23644 Filed 10-21-04; 8:45 am]

BILLING CODE 7400-01-P